DEPARTMENT OF ENERGY

Federal Energy Regulatory Commission

[Docket No. CP05-156-000]

Texas Eastern Transmission, LP; Notice of Request Under Blanket Authorization

May 6, 2005.

Take notice that on April 26, 2005, Texas Eastern Transmission, LP (Texas Eastern), filed in Docket No. CP05-156-000, an application pursuant to sections 157.205 and 157.208 of the Commission's Regulations, and Texas Eastern's blanket certificate authorization granted in Docket No. CP82-535-000, for authority to replace and relocate pipeline and related facilities at five locations in Fayette County, Pennsylvania, all as more fully set forth in the application which is on file with the Commission and open to public inspection.

Texas Eastern has requested this authorization in order to accommodate ongoing construction as part of the Pennsylvania Turnpike Commission's (PTC) Mon-Fayette Expressway Project. Texas Eastern proposes to perform these activities under its blanket certificate issued in Docket No. CP82-535-000. Texas Eastern states that the estimated cost to replace and re-route the pipeline segments is $12,522,432. Texas Eastern will be reimbursed by the PTC for $12,433,282 and the remainder will be financed by Texas Eastern with funds on hand.

Any questions regarding the application should be directed to Steven E. Tillman, General Manager of Regulatory Affairs, Texas Eastern Transmission, LP, P.O. Box 1642, Houston, Texas 77251-1642 at (713) 627-5113

This filing is available for review at the Commission or may be viewed on the Commission's Web site at http://www.ferc.gov, using the “eLibrary” link. Enter the docket number excluding the last three digits in the docket number filed to access the document. For assistance, please contact FERC Online Support at FERCOnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 45 days after issuance of the instant notice by the Commission, file pursuant to Rule 214 of the Commission's Procedural Rules (18 CFR 385.214) a motion to intervene or notice of intervention and pursuant to Section 157.205 of the Regulations under the Natural Gas Act (18 CFR 157.205) a protest to the request. If no protest is filed within the time allowed, therefore, the proposed activity shall be deemed to be authorized effective the day after the time allowed for filing a protest. If a protest is filed and not withdrawn within 30 days after the time allowed for filing a protest, the instant request shall be treated as an application for authorization pursuant to Section 7 of the Natural Gas Act.

Magalie R. Salas,
Secretary.

[FR Doc. E5-2371 Filed 5-11-05; 8:45 am]

BILLING CODE 6717-01-P